DEPARTMENT OF THE INTERIOR

Bureau of Land Management

[LLCAD01000 L12100000.MD0000 16XL1109AF]

Meeting of the California Desert District Advisory Council

AGENCY: Bureau of Land Management, Interior.

ACTION: Notice of public meeting.

SUMMARY: In accordance with the Federal Land Policy and Management Act of 1976 (FLPMA), and the Federal Advisory Committee Act of 1972 (FACA), the U.S. Department of the Interior, Bureau of Land Management (BLM) California Desert District Advisory Council (DAC) will meet as indicated below.

DATES: The DAC will participate in a field tour of BLM-administered public lands on Friday, December 4, 2015, from 8:00 a.m. to 5:00 p.m. and will meet in formal session on Saturday, December 5, 2015, from 8:00 a.m. to 5:00 p.m. in El Centro, California. Members of the public are welcome. They must provide their own transportation, meals and beverages. Final agendas for the Friday field trip and the Saturday public meeting, along with the Saturday meeting location, will be posted on the DAC Web page at http://www.blm.gov/ca/st/en/info/rac/dac.html when finalized.

FOR FURTHER INFORMATION CONTACT: Stephen Razo, BLM California Desert District External Affairs, 1-951-697-5217. Persons who use a telecommunications device for the deaf (TDD) may call the Federal Information Relay Service (FIRS) at 1-800-877-8339 to contact the above individual during normal business hours. The FIRS is available 24 hours a day, 7 days a week, to leave a message or question with the above individuals. You will receive a reply during normal hours.

SUPPLEMENTARY INFORMATION: All DAC meetings are open to the public. The 15-member council advises the Secretary of the Interior, through the BLM, on a variety of planning and management issues associated with public land management on BLM-administered lands in the California desert. Public comment for items not on the agenda will be scheduled at the beginning of the meeting Saturday morning. Time for public comment is made available by the council chairman during the presentation of various agenda items, and is scheduled at the end of the meeting for topics not on the agenda.

While the Saturday meeting is tentatively scheduled from 8:00 a.m. to 5:00 p.m., the meeting could conclude prior to 5:00 p.m. should the council conclude its presentations and discussions. Therefore, members of the public interested in a particular agenda item or discussion should schedule their arrival accordingly. Agenda for the Saturday meeting will include updates by council members, the BLM California Desert District Manager, five Field Managers, and council subgroups. Focus topics for the meeting will include renewable energy, Salton Sea, and geothermal. Written comments may be filed in advance of the meeting for the California Desert District Advisory Council, c/o Bureau of Land Management, External Affairs, 22835 Calle San Juan de Los Lagos, Moreno Valley, CA 92553. Written comments also are accepted at the time of the meeting and, if copies are provided to the recorder, will be incorporated into the minutes.

Dated: November 23, 2015.
Teresa A. Raml,
California Desert District Manager.

[FR Doc. 2015-30617 Filed 12-2-15; 8:45 am]

BILLING CODE 4310-40-P